DEPARTMENT OF COMMERCE

National Oceanic and Atmospheric Administration

RIN 0648-XG341

Caribbean Fishery Management Council; Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a 2-day meeting in August to discuss the items contained in the agenda in the SUPPLEMENTARY INFORMATION.

DATES: The meetings will be held on August 9, 2018, from 10 a.m. to 4 p.m. and on August 10, 2018, from 9 a.m. to 3 p.m.

ADDRESSES: The meetings will be held at the CFMC Headquarters, 270 Muñoz Rivera Avenue, Suite 401, San Juan, Puerto Rico 00918.

FOR FURTHER INFORMATION CONTACT: Caribbean Fishery Management Council, 270 Muñoz Rivera Avenue, Suite 401, San Juan, Puerto Rico 00918-1903, telephone: (787) 766-5926.

SUPPLEMENTARY INFORMATION:

August 9, 2018, 10 a.m.-4 p.m.

○ Call to Order

○ Adoption of Agenda

○ OEAP Chairperson's Report

—Status of:

• OEAP members meeting attendance

• Chair Report

—GeoAmbiente video on Puerto Rico's fishers' contribution to fisheries management

—Videos for St. Thomas/St. John and St. Croix

—Meetings attended: Council Communication Coordination Group (CCG) Sitka, AK; Capitol Hill Ocean Week (CHOW) Washington, DC

—CFMC Report 162nd Regular Meeting

—Status of fishing infrastructure post hurricanes in the region

—USVI activities

—Status of Island-Based Fishery Management Plans (IBFMPs)

—Status of Fishery Ecosystem Plan (FEP)

—Responsible Seafood Consumption Campaign

August 10, 2018, 9 a.m.-3 p.m.

—2019 Calendar and CFMC web page Update—Natalia Perdomo

—Caribbean Fishery App

—CFMC Social Media communication Plan

—Facebook and YouTube channel

—MREP Caribbean

—Other Business

The order of business may be adjusted as necessary to accommodate the completion of agenda items. The meeting will begin on August 9, 2018 at 10 a.m. and will end on August 10, 3018 at 3 p.m. Other than the start time, interested parties should be aware that discussions may start earlier or later than indicated. In addition, the meeting may be extended from, or completed prior to the date established in this notice.

Special Accommodations

These meetings are physically accessible to people with disabilities. For more information or request for sign language interpretation and other auxiliary aids, please contac Mr. Miguel A. Rolón, Executive Director, Caribbean Fishery Management Council, 270 Muñoz Rivera Avenue, Suite 401, San Juan, Puerto Rico, 00918-1903; telephone: (787) 766-5926, at least 5 days prior to the meeting date.

Dated: July 17, 2018.
Rey Israel Marquez,
Acting Deputy Director, Office of Sustainable Fisheries, National Marine Fisheries Service.

[FR Doc. 2018-15589 Filed 7-19-18; 8:45 am]

BILLING CODE 3510-22-P